DEPARTMENT OF LABOR

Mine Safety and Health Administration

30 CFR Part 90

[Docket No. MSHA-2023-0001]

RIN 1219-AB36

Lowering Miners' Exposure to Respirable Crystalline Silica and Improving Respiratory Protection; Correction

AGENCY: Mine Safety and Health Administration (MSHA), Department of Labor.

ACTION: Final rule; correction.

SUMMARY: The Mine Safety and Health Administration (MSHA) is correcting an amendatory instruction in a final rule that was published in the Federal Register on April 18, 2024. The document amended the Agency's existing standards to better protect miners against occupational exposure to respirable crystalline silica, a significant health hazard, and to improve respiratory protection for miners from exposure to airborne contaminants.

DATES: This correction is effective June 17, 2024.

FOR FURTHER INFORMATION CONTACT: S. Aromie Noe, Director, Office of Standards, Regulations, and Variances, MSHA, at: silicaquestions@dol.gov (email); 202-693-9440 (voice); or 202-693-9441 (facsimile). These are not toll-free numbers.

SUPPLEMENTARY INFORMATION: In (FR Doc. 2024-06920) published on April 18, 2024 (89 FR 28218), the following correction is made:

§ 90.100 [Corrected]

1. On page 28482, in the third column, in amendment 79, the instruction “Amend § 90.100 by adding introductory text to read as follows:” is corrected to read “Amend § 90.100 by revising the introductory text to read as follows:”

Christopher J. Williamson,
Assistant Secretary of Labor for Mine Safety and Health.

[FR Doc. 2024-13151 Filed 6-13-24; 8:45 am]

BILLING CODE 4520-43-P